DEPARTMENT OF THE TREASURY

Internal Revenue Service

Proposed Collection; Requesting Comments on Form 8995 and Form 8995-A; Correction

AGENCY: Internal Revenue Service (IRS), Treasury.

ACTION: Notice and request for comments; correction.

SUMMARY: The Internal Revenue Service published a document in the Federal Register of June 1, 2021, concerning request for comments on Form 8995 and Form 8995-A.

FOR FURTHER INFORMATION CONTACT: Jon Callahan, (737) 800-7639, at Internal Revenue Service, Room 6526, 1111 Constitution Avenue NW, Washington, DC 20224, or through the internet at jon.r.callahan@irs.gov.

SUPPLEMENTARY INFORMATION:

Correction

In the Federal Register of June 1, 2021, in FR Doc. 2021-11445, on page 29360, in the second column, correct the “Estimated Time per Respondent” and “Estimated Total Annual Burden Hours” captions to read:

Estimated Time per Respondent: 8 hours, 7 minutes.

Estimated Total Annual Burden Hours: 336,107,360.

Dated: July 15, 2021.
Jon R. Callahan,
Tax Analyst.

[FR Doc. 2021-15499 Filed 7-20-21; 8:45 am]

BILLING CODE 4830-01-P